DEPARTMENT OF ENERGY

Federal Energy Regulatory Commission

[Docket No. CP12-491-000]

Trunkline Gas Company, LLC; Notice of Intent To Prepare an Environmental Assessment for the Proposed Trunkline Mainline Abandonment Project and Request for Comments on Environmental Issues

The staff of the Federal Energy Regulatory Commission (FERC or Commission) will prepare an environmental assessment (EA) that will discuss the environmental impacts of the Trunkline Mainline Abandonment Project involving abandonment of facilities by Trunkline Gas Company, LLC (Trunkline) located in numerous counties in Illinois, Kentucky, Tennessee, Mississippi, Arkansas, Louisiana, and Texas. The Commission will use this EA in its decision-making process to determine whether the project is in the public convenience and necessity.

This notice announces the opening of the scoping process the Commission will use to gather input from the public and interested agencies on the project. Your input will help the Commission staff determine what issues they need to evaluate in the EA. Please note that the scoping period will close on November 26, 2012.

This notice is being sent to the Commission's current environmental mailing list for this project. State and local government representatives should notify their constituents of this proposed project and encourage them to comment on their areas of concern.

Trunkline provided landowners with a fact sheet prepared by the FERC entitled “An Interstate Natural Gas Facility On My Land? What Do I Need To Know?”. This fact sheet addresses a number of typically-asked questions, including the use of eminent domain and how to participate in the Commission's proceedings. It is also available for viewing on the FERC Web site (www.ferc.gov).

Summary of the Proposed Project

Trunkline proposes to abandon by transfer to a corporate affiliate portions of its existing 100-1 and 100-2 looped ¹ pipeline systems and portions of compressor stations (CS) located in numerous counties in Illinois, Kentucky, Tennessee, Mississippi, Arkansas, Louisiana, and Texas, so that they may be converted to the transmission of crude oil. Trunkline also proposes to abandon in-place 12 compressor units totaling 15,850 horsepower (hp) that are no longer needed. Trunkline states that the abandonment would result in the reduction of its certificated winter mainline capacity through the Independence CS from 1,555 thousand dekatherms per day (MDt/d) to 958 MDt/d, and the certificated capacity out of its Texas portion of its system through the Longville CS would be reduced from 1,109 MDt/d to 920 MDt/d. After abandonment, these gas volumes would continue to be transported using the 100-2 pipeline between the Kountze CS and Longville CS, and the 100-3 pipeline between the Longville CS and the Tuscola CS.

¹ A pipeline loop is a segment of pipe constructed parallel to an existing pipeline to increase capacity.

The Trunkline Mainline Abandonment Project would consist of the following:

• Abandonment by transfer of 45.02 miles of the 24-inch-diameter 100-1 Loopline extending from Main Line Valve (MLV) 43-1 near Buna, Texas to the Longville CS near Longville, Louisiana;

• Abandonment by transfer of 725.46 miles of the 30-inch-diameter 100-2 Loopline pipeline extending from the Longville CS to the Tuscola CS near Tuscola, Illinois;

• Abandonment in-place of a 3,000-hp compressor unit from the Pollock CS (Louisiana); a 1,050-hp compressor unit from the Epps CS (Louisiana); four compressor units totaling 4,200 hp from the Shaw CS (Mississippi); five compressor units totaling 5,250 hp from the Independence CS (Mississippi); and a 2,350-hp compressor unit from the Joppa CS (Illinois); and

• Abandonment of minor facilities at 163 sites across the systems, 80 of which would require ground disturbing activities.

Trunkline states that upon the grant of abandonment authority for the above facilities, its Mainline pipeline and existing compressor stations would continue to operate in interstate transportation service.

The general location of the project facilities is shown in appendix 1.²

² The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Non-Jurisdictional Facilities

Following transfer of the facilities, the future operator of the abandoned pipeline would perform activities that are not under the jurisdiction of the FERC (non-jurisdictional) including modification of the facilities to transport crude oil. The future operator would modify the facilities proposed for abandonment at 95 sites. These activities would include:

• Removal and/or change out of mostly MLVs at 84 sites that overlap the abandonment work sites;

• Construction of four new MLVs;

• Construction of three new relays totaling 4,400 feet to make the pipeline diameter consistent, in order to enable inline inspection tools to be run through the crude oil pipeline; and

• Construction of replacement pipelines across the Sabine, Red, Mississippi, and Ouachita Rivers using the horizontal directional drilling method.

The scope of the non-jurisdictional pipeline construction activities is still being developed. However, the current scope includes:

• Construction of about 33.6 miles of 30-inch-diameter pipeline from the vicinity of the tank farms in Patoka, Illinois to Trunkline's existing Johnsonville CS; and

• Construction of about 154 miles of 30-inch-diameter pipeline from about milepost 62.7 near Alexandria, Louisiana to a possible delivery point in St. James, Louisiana.

These related non-jurisdictional facilities are not subject to the FERC's environmental review procedures. In the EA, we ³ will provide available descriptions of the non-jurisdictional facilities and include them under our analysis of cumulative impacts.

³ “We,” “us,” and “our” refer to the environmental staff of the Commission's Office of Energy Projects.

Land Requirements for Construction

Trunkline's abandonment activities would require ground disturbance of approximately 10.1 acres at 80 sites and would involve the following: excavation of cross-over pipeline segments for isolation of tap valve meter and regulators, installation of hot taps on the Mainline pipeline, excavation and removal of two drip lines on Loopline 100-2, removal of a small segment of pipeline from Loopline 100-1 downstream of Mainline Valve 43-1, and capping the ends of the pipe. Upon conclusion of the abandonment activities, the disturbed acreage would be restored. In addition, Trunkline would use other areas at existing mainline valve and compressor stations to disconnect above ground piping, welding caps on the pipeline ends, or installing blind flanges. These activities would involve no ground disturbance.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this notice, the Commission requests public comments on the scope of the issues to address in the EA. We will consider all filed comments during the preparation of the EA.

In the EA we will discuss impacts that could occur as a result of the abandonment of the proposed project under these general headings:

• Geology and soils;

• Land use;

• Water resources, fisheries, and wetlands;

• Cultural resources;

• Vegetation and wildlife;

• Air quality and noise;

• Endangered and threatened species;

• Public safety; and

• Cumulative impacts.

We will also evaluate reasonable alternatives to the proposed project or portions of the project, and make recommendations on how to lessen or avoid impacts on the various resource areas.

The EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section below.

With this notice, we are asking agencies with jurisdiction by law and/or special expertise with respect to the environmental issues of this project to formally cooperate with us in the preparation of the EA.⁴ Agencies that would like to request cooperating agency status should follow the instructions for filing comments provided under the Public Participation section of this notice.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with applicable State Historic Preservation Offices (SHPO), and to solicit their views and those of other government agencies, interested Indian tribes, and the public on the project's potential effects on historic properties.⁵ We will define the project-specific Area of Potential Effects (APE) in consultation with the SHPOs as the project develops. On natural gas facility projects, the APE at a minimum encompasses all areas subject to ground disturbance (examples include construction right-of-way, contractor/pipe storage yards, compressor stations, and access roads). Our EA for this project will document our findings on the impacts on historic properties and summarize the status of consultations under section 106.

⁵ The Advisory Council on Historic Preservation's regulations are at Title 36, Code of Federal Regulations, Part 800. Those regulations define historic properties as any prehistoric or historic district, site, building, structure, or object included in or eligible for inclusion in the National Register of Historic Places.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before November 26, 2012.

For your convenience, there are three methods which you can use to submit your comments to the Commission. In all instances please reference the project Docket Number CP12-491-000 with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; and local libraries and newspapers. This list also includes all affected landowners (as defined in the Commission's regulations) who are existing right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed project.

If we publish and distribute the EA, copies will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP12-491-000. Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: October 26, 2012.
Kimberly D. Bose,
Secretary.

[FR Doc. 2012-27015 Filed 11-5-12; 8:45 am]

BILLING CODE 6717-01-P